GENERAL SERVICES ADMINISTRATION

[Notice-MG-2019-02; Docket No. 2019-0002; Sequence No. 12]

Office of Federal High-Performance Buildings; Green Building Advisory Committee; Notification of Upcoming Teleconference

AGENCY: Office of Government-Wide Policy (OGP), General Services Administration (GSA).

ACTION: Meeting notice.

SUMMARY: Notice of a teleconference/web meeting, is being provided according to the requirements of the Federal Advisory Committee Act. This notice provides the schedule for a teleconference/web meeting of the Green Building Advisory Committee (the Committee). This meeting is open for the public to either listen to or observe. Individuals interested in attending this meeting must register to attend as instructed below under SUPPLEMENTARY INFORMATION.

DATES: The Committee will hold a teleconference/web meeting on Thursday June 20, 2019, from 2:00 p.m. Eastern Standard Time (EDT), to 4:00 p.m., EDT.

FOR FURTHER INFORMATION CONTACT: Mr. Michael Bloom, Group Federal Officer, Office of Federal High-Performance Buildings, OGP, GSA, 1800 F Street NW, Washington, DC 20405, at email address michael.bloom@gsa.gov, or telephone number 312-805-6799. Additional information about the Committee is available on-line at http://www.gsa.gov/gbac.

SUPPLEMENTARY INFORMATION:

Background

The Administrator of GSA established the Committee on June 20, 2011 (Federal Register/Vol. 76, No. 118) pursuant to Section 494 of the Energy Independence and Security Act of 2007 (EISA, 42 U.S.C. 17123). Under this authority, the Committee provides independent policy advice and recommendations to GSA to improve federal buildings (assets, operations, use, and resilience) to enhance human health and performance, and safeguard social, economic, and environmental security.

Purpose

The purpose of this teleconference/web meeting is to review, consolidate and develop consensus for the Committee's input to GSA as part of the public review period for the high-performance building certification systems review.

Procedures for Attendance and Public Comment

Contact Mr. Michael Bloom at michael.bloom@gsa.gov to register to participate in the teleconference/web meeting on June 20, 2019. To attend this event, submit your full name, organization, email address, and phone number. Requests to attend the teleconference/web meeting must be received by 5:00 p.m. EDT, on Tuesday, June 18, 2019. (GSA will be unable to provide technical assistance to any listener experiencing technical difficulties. Testing access to the Web meeting site before the calls is recommended.)

June 20, 2019 Committee Teleconference/Web Meeting

Relevant background information and updates for the teleconference will be posted on GSA's website at http://www.gsa.gov/gbac.

Committee Teleconference/Web Meeting Agenda

—Review, consolidate and develop consensus for the Committee's input to GSA as part of the public review period for the high-performance building certification systems review.

Kevin Kampschroer,
Federal Director, Office of Federal High-Performance Buildings, General Services Administration.

[FR Doc. 2019-11886 Filed 6-5-19; 8:45 am]

BILLING CODE 6820-14-P